DEPARTMENT OF HOUSING AND URBAN DEVELOPMENT

[Docket No. FR-5837-N-03]

60-Day Notice of Proposed Information Collection: Evaluation of the Section 811 Project Rental Assistance Program, Phase I

AGENCY: Office of Policy Development and Research, HUD.

ACTION: Notice of proposed information collection.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 31, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in section A.

A. Overview of Information Collection

Title of Information Collection: Evaluation of the Section 811 Project Rental Assistance Program, Phase I.

OMB Approval Number: N/A.

Type of Request: New.

Form Number: N/A.

Description of the need for the information and proposed use: The Office of Policy Research and Development, U.S. Department of Housing and Urban Development (HUD), is proposing a data collection activity as part of the evaluation of the Section 811 Supportive Housing for Persons with Disabilities (Section 811) Project Rental Assistance (PRA) Program. The PRA Program is a new model of housing assistance authorized in 2010 that provides project-based rental assistance to state housing agencies for the development of supportive housing for extremely low-income persons with disabilities. Housing agencies must have a formal partnership with the state health and human service agency and the state Medicaid provider to provide services and supports directly to residents living in units funded with Section 811 PRA.

The Section 811 PRA program authorizing statute requires HUD to describe the assistance under the program, to analyze its effectiveness, and propose recommendations for future assistance under Section 811. HUD is implementing a two-phase evaluation of the Section 811 PRA program. The first phase of the evaluation is focused on a process evaluation that will describe the implementation of the program in the first 12 states awarded Section 811 PRA funds. The second phase will evaluate the program effectiveness and its impact on residents. This request for OMB clearance covers the first phase of the evaluation. Data collection includes in-person interviews with staffs at state agencies, (housing, health and human services and state Medicaid providers) and Section 811 PRA Partner Agencies (property owners or managers of properties where Section 811 PRA participants live and staff at organizations that provide supportive services to PRA participants). The purpose of the interviews is to document the implementation experience of the Section 811 PRA Program.

Respondents (i.e. affected public): State housing agencies, state health and human service and Medicaid provider agencies, and Section 811 PRA Partner Agencies.

Total Estimated Burden: For the state housing agency staff, state health and human service agency staff and state Medicaid agency staff, researchers will administer interviews on the implementation of the Section 811 PRA Program for a total of five hours. An additional two hours will be needed to compile material needed on the PRA program in order to answer the research questions. The total burden for state housing agency and Medicaid respondents is 168 hours. The average burden of interviews for Section 811 PRA Partner Agency staff is one hour, with an additional hour to compile information needed to complete the interview. The total burden for PRA Partner Agencies is 137.5 hours. The total burden for all respondents is 305.5 hours.

Respondents | Number of respondents | Frequency of response | Average burden/ response (hours) | Average burden/ data collection (hours) | Total estimated burden (hours)
State housing agencies implementing Section 811 PRA | 12 | 1 | 5 | 2 | 84
Medicaid agencies implementing Section 811 PRA | 12 | 1 | 5 | 2 | 84
Section 811 PRA Partner Agencies | 55 | 1 | 1.5 | 1 | 137.5
Total Burden Hours |  |  |  |  | 305.5

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: 1701z-1 Research and Demonstrations; 12 U.S.C. chapter 13.

Dated: June 22, 2015.
Katherine M. O'Regan,
Assistant Secretary, Office of Policy Development and Research.

[FR Doc. 2015-16202 Filed 6-30-15; 8:45 am]

BILLING CODE 4210-67-P